DEPARTMENT OF THE INTERIOR

Fish and Wildlife Service

[FWS-R9-R-2011-N030; 93261-1263-000-5C]

RIN 1018-AX35

Friends Policy for the U.S. Fish and Wildlife Service

AGENCY: Fish and Wildlife Service, Interior.

ACTION: Notice.

SUMMARY: We, the Fish and Wildlife Service (Service), announce that we have established a Friends policy, the purpose of which is to assist Service employees in achieving our mission more efficiently and effectively by increasing community involvement through partnerships with nonprofit Friends organizations (Friends). The policy includes guidance on the relationship between the Service and Friends, Service employee responsibilities, financial and administrative practices, Friends Partnership Agreements, and revenue generating operations.

DATES: This policy is in effect as of April 4, 2014.

ADDRESSES: The Friends policy is available at www.fws.gov/refuges/friends and in the Fish and Wildlife Service Manual at: www.fws.gov/policy/manuals/.

FOR FURTHER INFORMATION CONTACT: Joanna Webb, Visitor Services, National Wildlife Refuge System, U.S. Fish and Wildlife Service, 4401 North Fairfax Drive, Room 635, Arlington, VA 22203; Telephone: 703-358-2392.

SUPPLEMENTARY INFORMATION:

Introduction

We have established a final Friends policy, which is available at www.fws.gov/refuges/friends and in the Service Manual at www.fws.gov/policy/manuals/.

We have incorporated this policy as part 633, chapters 1-4 of the Fish and Wildlife Service Manual. The purpose of the policy is to assist Service employees in achieving our mission more efficiently and effectively by increasing community involvement through partnerships with nonprofit Friends. The policy includes guidance on the relationship between the Service and Friends organizations, Service employee responsibilities, financial and administrative practices, Friends Partnership Agreements, and revenue-generating operations.

Background

While these chapters are written to implement specific provisions of the National Wildlife Refuge System Volunteer and Community Partnership Enhancement Act of 1998 (Pub. L. 105-242, 112 Stat. 1574), and the National Fish Hatchery System Volunteer Act of 2006 (Pub. L. 109-360), they also provide direction and administrative procedures for other divisions of the Service seeking to establish and work with Friends organizations.

The two Acts together encourage the National Wildlife Refuge and Hatchery Systems to enter into partnerships with non-Federal entities such as Friends organizations to promote public awareness of Service resources and facilitate public participation in the conservation of those resources, and to accept donations of funds and other contributions by people and organizations through partnerships with non-Federal entities such as Friends organizations. We based this policy on these statutory requirements.

The National Friends Program (National Refuge System) was established in 1996 to encourage and organize community involvement in refuge activities. The program works to expand the number and effectiveness of community-based Friends organizations, which assist with increasing visibility and support for refuges, the Refuge System, and conservation. During the last decade, the Friends program has grown substantially in size and complexity, with approximately 200 Refuge Friends organizations and 30 Fisheries Friends organizations, with a combined estimated total of 40-60,000 members. These organizations significantly strengthen refuges and fish hatcheries across the country and help the Service fulfill its mission.

Final Policy

We recognize that Friends provide many vital services to our sites and programs. This policy provides guidance on roles and responsibilities for the Service to enter into partnerships and work with Friends organizations. The purpose of this policy is to provide Service employees with guidance when working with Friends organizations.

Chapter 1 of this policy identifies the legal authorities under which the Service must work with Friends organizations, describes the relationship between the Service and Friends organizations, and describes the responsibilities of Service employees and Friends organizations.

Chapter 2 describes the information we need when we consider the financial and administrative activities under Friends agreements, including the practices and activities that the Service may allow on Service-managed property.

Chapter 3 describes the major components of and process for developing and modifying legal Friends Partnership Agreements between Friends organizations and the Service.

Chapter 4 describes how we work with Friends organizations to manage revenue-generating operations on Service property.

Summary of Comments and Changes to the Final Policy

On October 18, 2010, we announced the draft of this policy and requested public comments via a Federal Register notice (75 FR 63851). The comment period was open from October 18, 2010, through December 2, 2010. On March 9, 2011, we opened a second public comment period, which went through April 8, 2011 (76 FR 12989). In total, we received approximately 40 comment letters on the draft policy. The letters included a total of approximately 500 individual comments on the draft policy. The comments were from Federal and State government agencies, nongovernmental organizations, and individuals. Most of the comments addressed specific elements, while some comments expressed general support, without addressing specific elements. We considered all of the information and recommendations for improvement included in the comments and made appropriate changes to the draft policy. We also made some additions and clarifications to the policy that were not addressed in the public comments, but were discovered through internal briefings and reviews during the policy revision period.

Dated: April 7, 2014.
Daniel M. Ashe,
Director, U.S. Fish and Wildlife Service.

[FR Doc. 2014-09092 Filed 4-21-14; 8:45 am]

BILLING CODE 4310-55-P